DEPARTMENT OF LABOR

Employment and Training Administration

[TA-W-63,300]

Fisher & Company, Inc., Fisher Dynamics Division, St. Clair Shores, Michigan; Notice of Termination of Investigation

Pursuant to Section 221 of the Trade Act of 1974, as amended, an investigation was initiated on May 2, 2008 in response to a petition filed by a company official on behalf of workers of Fisher and Company, Fisher Dynamics Division, and Fisher and Company, Corporate Offices, St. Claire Shores, Michigan.

The workers are covered by active certifications (TA-W-59,597 and TA-W-60,421) which expire on July 12, 2008 and December 18, 2008 respectively. Consequently, further investigation in this case would serve no purpose, and the investigation has been terminated.

Signed at Washington, DC this 2nd day of May 2008.
Richard Church,
Certifying Officer, Division of Trade Adjustment Assistance.

[FR Doc. E8-10581 Filed 5-12-08; 8:45 am]

BILLING CODE 4510-FN-P